DEPARTMENT OF AGRICULTURE

Foreign Agricultural Service

Trade Adjustment Assistance for Farmers

AGENCY: Foreign Agricultural Service, USDA.

ACTION: Notice.

The Administrator, Foreign Agricultural Service (FAS), today accepted a petition filed by Organized Seafood Association of Alabama, Bayou La Batre, Alabama, for trade adjustment assistance. The association represents shrimpers and shrimp farmers in Alabama. The Administrator will determine within 40 days whether or not imports of shrimp and prawns contributed importantly to a decline in domestic producer prices of 20 percent or more during the marketing year period beginning January 2002 through December 2002. If the determination is positive, all shrimp producers in Alabama will be eligible to apply to the Farm Service Agency for technical assistance at no cost and for adjustment assistance payments.

FOR FURTHER INFORMATION CONTACT: Jean-Louis Pajot, Coordinator, Trade Adjustment Assistance for Farmers, FAS, USDA, (202) 720-2916, e-mail: trade.adjustment@fas.usda.gov.

Dated: November 17, 2003.
Kenneth J. Roberts,
Administrator, Foreign Agricultural Service.

[FR Doc. 03-30182 Filed 12-3-03; 8:45 am]

BILLING CODE 3410-10-M